DEPARTMENT OF AGRICULTURE

Forest Service

Missouri River Resource Advisory Committee

AGENCY: Forest Service, USDA.

ACTION: Notice of meeting.

SUMMARY: The Missouri River Resource Advisory Committee (RAC) will meet in Helena, Montana. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act. The meeting is open to the public. The purpose of the meeting is review and recommend projects.

DATES: The meeting will be held June 25, 2014 at 6 p.m.

All RAC meetings are subject to cancellation. For status of meeting prior to attendance, please contact the person listed under FOR FURTHER INFORMATION CONTACT.

ADDRESSES: The meeting will be held at the Helena Forest Service office at 2880 Skyway Drive, Helena, Montana. Video and teleconference will be available, those dial-in instructions will be posted online at least two weeks prior to the RAC meeting.

Written comments may be submitted as described under Supplementary Information. All comments, including names and addresses when provided, are placed in the record and are available for public inspection and copying. The public may inspect comments received at the Helena Supervisor's Office (2880 Skyway Drive) or via email to RAC Designated Federal Official Kathy Bushnell at kbushnell@fs.fed.us. Please call ahead to facilitate entry into the building.

FOR FURTHER INFORMATION CONTACT: Kathy Bushnell, RAC Designated Federal Official by phone at 406-495-3747 or via email at kbushnell@fs.fed.us.

Individuals who use telecommunication devices for the deaf (TDD) may call the Federal Information Relay Service (FIRS) at 1-800-877-8339 between 8:00 a.m. and 8:00 p.m., Eastern Standard Time, Monday through Friday. Please make requests in advance for sign language interpreting, assistive listening devices or other reasonable accommdation for access to the facility or procedings by contacting the person listed For Further Information.

SUPPLEMENTARY INFORMATION: Additional RAC information, including the meeting agenda and the meeting summary/minutes can be found at the following Web site: http://www.fs.usda.gov/main/helena/workingtogether/advisorycommittees. The agenda will include time for people to make oral statements of three minutes or less. Individuals wishing to make an oral statement should request in writing by Wednesday, June 18, 2014 to be scheduled on the agenda. Anyone who would like to bring related matters to the attention of the committee may file written statements with the committee staff before or after the meeting. Written comments and requests for time for oral comments must be sent to Kathy Bushnell, Helena National Forest, 2880 Skyway Drive, Helena, MT 59602 or by email to kbushnell@fs.fed.us, or via facsimile to 406-495-5436.

Dated: May 5, 2014.
Katherine Bushnell,
Designated Federal Official.

[FR Doc. 2014-11186 Filed 5-14-14; 8:45 am]

BILLING CODE 3410-11-P